DEPARTMENT OF THE INTERIOR

Bureau of Land Management

[L14400000/LLAZ920000/ET0000/AZA-38142]

Notice of Proposed Withdrawal and Opportunity for a Public Meeting, Arizona

AGENCY: Bureau of Land Management, Interior.

ACTION: Notice.

SUMMARY: On behalf of the Bureau of Land Management (BLM) and subject to valid existing rights, the Secretary of the Interior proposes to withdraw 2,365.89 acres of public lands in Maricopa County, Arizona, from all forms of appropriation under the public land laws, including location and entry under the United States mining laws, and from leasing under the mineral and geothermal leasing laws for up to 5 years while a land management evaluation (LME) is completed. Publication of this notice temporarily segregates the lands for up to 2 years and announces to the public an opportunity to comment and request a public meeting on the proposed withdrawal.

DATES: Comments and requests for a public meeting must be received by June 7, 2022.

ADDRESSES: All comments and meeting requests should be sent to the Bureau of Land Management (BLM) Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office, telephone: (602) 417-9561, email at mouellett@blm.gov; or you may contact the BLM office at the address noted earlier. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM and the Department of the Air Force (USAF) are engaged in an evaluation of the Barry M. Goldwater Range expansion identified as the Gila Bend Addition, pending processing of the USAF's application for withdrawal of public land for defense purposes under the Engle Act (85 FR 21876, April 20, 2020). The BLM has filed a petition/application requesting the Secretary of the Interior withdraw the following described public lands from all forms of appropriation under the public land laws, including location and entry under the United States mining laws, and from leasing under the mineral and geothermal leasing laws for up to 5 years, subject to valid existing rights. The BLM's application does not request reservation of the lands for the USAF for defense purposes. This notice invites members of the public, Federal, State, local and Tribal governments, and other stakeholders to provide the BLM with information relevant to address potential impacts to existing multiple uses and resources from such short-term withdrawal, including but not limited to impacts to mineral and geothermal resources.

Gila and Salt River Meridian, Arizona

T.6 S., R.4 W.,

Sec. 19, lots 3 and 4, E½SW¼;

Sec. 31, lots 1 and 2, E½NW¼.

T.7 S., R.4 W.,

Sec. 5, SW¼SW¼SW¼;

Sec. 6, lots 3 thru 7, SE¼NW¼, E½SW¼, SE¼;

Sec. 7;

Sec. 8;

Sec. 9, S½.

The areas described aggregate 2,365.89 acres.

This petition/application has been approved for publication by the Deputy Secretary of the Interior and therefore constitutes a withdrawal proposal of the Secretary of the Interior (43 CFR 2310.1-3(e)).

The use of a right-of-way, interagency agreement, or cooperative agreement would not adequately constrain non-discretionary uses that may result in disturbance of the lands embraced within the Gila Bend Addition.

No additional water rights will fulfill the purpose of this new withdrawal.

There are no suitable alternative sites since these lands are identical to the USAF's BMGR Gila Bend Addition expansion application lands.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Arizona State Director no later than June 7, 2022. If the authorized officer determines that a public meeting will be held, a notice of the time and place will be published in the Federal Register and a local newspaper at least 30 days before the scheduled date of the meeting.

For a period until March 11, 2024, the lands described earlier will be segregated from all forms of appropriation under the public land laws, including location and entry under the United States mining laws, and from leasing under the mineral and geothermal leasing laws, unless the application is denied or canceled, or the withdrawal is approved prior to that date.

This application will be processed in accordance with the regulations set-forth in 43 CFR part 2300.

(Authority: 43 U.S.C. 1714(b)(1) and 43 CFR 2300)

Raymond Suazo,
State Director.

[FR Doc. 2022-04967 Filed 3-8-22; 8:45 am]

BILLING CODE 4310-32-P